DEPARTMENT OF COMMERCE

International Trade Administration

[A-533-810]

Stainless Steel Bar From India: Final Results of Antidumping Duty Administrative Review; 2015-2016

AGENCY: Enforcement and Compliance, International Trade Administration, Department of Commerce.

SUMMARY: On March 1, 2017, the Department of Commerce (the Department) published the preliminary results of the administrative review of the antidumping duty order on stainless steel bar (SSB) from India. The period of review (POR) is February 1, 2015, through January 31, 2016. This review covers two producers or exporters of the subject merchandise: Ambica Steels Limited (Ambica), and Bhansali Bright Bars Pvt. Ltd. (Bhansali). We determine that Bhansali had no shipments of subject merchandise during the POR and that Ambica did have an entry of subject merchandise during the POR.

DATES: Effective June 12, 2017.

FOR FURTHER INFORMATION CONTACT: Joseph Shuler, AD/CVD Operations, Office I, Enforcement and Compliance, International Trade Administration, U.S. Department of Commerce, 1401 Constitution Avenue NW., Washington, DC 20230; telephone (202) 482-1293.

SUPPLEMENTARY INFORMATION:

Background

Following the Preliminary Results,¹ we received a timely filed case brief from Carpenter Technology Corporation, Crucible Industries LLC, Electralloy, a Division of G.O. Carlson, Inc., North American Stainless, Universal Stainless & Alloy Products, Inc., and Valbruna Slater Stainless, Inc. (the petitioners) and a timely filed rebuttal brief from Ambica.²

¹ See Stainless Steel Bar from India: Preliminary Results, of Antidumping Duty Administrative Review; 2015-2016, 82 FR 12190 (March 1, 2017) (Preliminary Results).

² See Letter from the petitioners to the Department, “Stainless Steel Bar from India—Petitioners' Case Brief,” (Petitioners' CB) dated March 31, 2017; see also, Letter from Ambica to the Department, “Stainless Steel Bar from India: Rebuttal Brief,” dated April 7, 2017 (Ambica's RB).

Scope of the Order

The merchandise subject to the order is SSB. SSB subject to the order is currently classifiable under subheadings 7222.10.00, 7222.11.00, 7222.19.00, 7222.20.00, 7222.30.00 of the Harmonized Tariff Schedule (HTS). Although the HTS subheadings are provided for convenience and customs purposes, our written description of the scope of the Order is dispositive. A full description of the scope of the order is contained in the Issues and Decision Memorandum.³

³ See the Memorandum from Gary Taverman, Associate Deputy Assistant Secretary for Antidumping and Countervailing Duty Operations, to Ronald K. Lorentzen, Acting Assistant Secretary for Enforcement and Compliance, “Issues and Decision Memorandum for the Final Results of the Antidumping Duty Administrative Review of Stainless Steel Bar from India; 2015-2016,” dated concurrently with, and hereby adopted by this notice (Issues and Decision Memorandum).

Analysis of Comments

All issues raised in the case and rebuttal briefs by parties in this review are addressed in the Issues and Decision Memorandum, which is hereby adopted by this notice. A list of the issues raised is attached to this notice as Appendix I. The Issues and Decision Memorandum is a public document and is on file electronically via Enforcement and Compliance's Antidumping and Countervailing Duty Centralized Electronic Service System (ACCESS). ACCESS is available to registered users at https://access.trade.gov and to all parties in the Central Records Unit, room B-8024 of the main Department of Commerce building. In addition, a complete version of the Issues and Decision Memorandum can be accessed directly at http://enforcement.trade.gov/frn/index.html.

Final Determination of No Shipments (Bhansali)

As stated in the Preliminary Results, we received a timely claim from Bhansali reporting that it had no shipments of the subject merchandise to the United States during the POR and preliminarily determined that it had no shipments during the POR. For the final results, we continue to find that Bhansali had no shipments of subject merchandise to the United States during the POR.

Final Results of Review (Ambica)

As stated in the Preliminary Results, the Department preliminarily found that Ambica had one suspended entry of subject merchandise during this POR for which it had knowledge of its sale to an unaffiliated U.S. customer. For the final results, the Department finds that Ambica had one suspended entry of subject merchandise during the POR. However, as stated in the Preliminary Results, the Department inadvertently included the sales associated with this 2015-16 entry of subject merchandise in its analysis for the 2014-15 administrative review. Therefore, we have determined to apply the importer-specific assessment rate calculated for Ambica in the 2014-15 review to this suspended entry in the instant review. For all other entries of subject merchandise attributed to Ambica during the instant POR, Ambica has reasonably explained that it had no knowledge of these entries into the United States or the sales associated with these entries. Accordingly, these entries will be liquidated at the all-others rate. For additional information and analysis, see the Issues and Decision Memorandum; see also the Preliminary Analysis Memorandum.⁴

⁴ Because of the proprietary nature of the entry documents, see the Memorandum from Joseph Shuler, International Trade Analyst to Alex Villanueva, Director, Antidumping and Countervailing Duty Operations Training and Professional Development Unit, “Stainless Steel Bar from India: Preliminary Analysis Memorandum,” dated February 22, 2017 (Preliminary Analysis Memorandum).

Assessment of Antidumping Duties

For the single suspended entry attributable to Ambica, we will instruct CBP to liquidate this entry at the importer-specific assessment rate calculated in the 2014-15 administrative review.

In accordance with the Department's practice, for entries of subject merchandise during the POR for which Ambica or Bhansali did not know that the merchandise was destined for the United States, we will instruct CBP to liquidate such entries at the all-others rate if there is no rate for the intermediate company(ies) involved in the transaction.

Cash Deposit Requirements

The following cash deposit requirements will be effective for all shipments of the subject merchandise entered, or withdrawn from warehouse, for consumption on or after the publication date of the final results of this administrative review, as provided by section 751(a)(2)(C) of the Tariff Act of 1930: (1) The cash deposit rate for Ambica and Bhansali will remain unchanged from the rate assigned to each company in the completed segment for the most recent period for each company; (2) for other producers and exporters covered in a prior segment of the proceeding, the cash deposit rate will continue to be the company-specific rate published for the completed segment for the most recent period of this proceeding in which that producer or exporter participated; (3) if the exporter is not a firm covered in this review, a prior review, or the original investigation, but the producer is, then the cash deposit rate will be the rate established for the completed segment for the most recent period of this proceeding for the producer of subject merchandise; and (4) the cash deposit rate for all other producers or exporters will continue to be 12.45 percent, the all-others rate established in the investigation.⁵ These cash deposit requirements, when imposed, shall remain in effect until further notice.

⁵ See Notice of Final Determination of Sales at Less Than Fair Value: Stainless Steel Bar from India, 59 FR 66915, 66921 (December 28, 1994).

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely written notification of the return or destruction of APO materials, or conversion to judicial protective order, is hereby requested. Failure to comply with the regulations and the terms of an APO is a violation subject to sanction.

These final results of administrative review are issued and published in accordance with sections 751(a)(1) and 777(i)(1) of the Act.

Dated: June 6, 2017.
Ronald K. Lorentzen,
Acting Assistant Secretary for Enforcement and Compliance.

Appendix I

List of Topics Discussed in the Issues and Decision Memorandum

I. Summary

II. Background

III. Changes Since the Preliminary Results

IV. Scope of the Order

V. Discussion of the Issues

Comment: Whether the Department's Liquidation Instructions Address All Applicable Entries

VI. Recommendation

[FR Doc. 2017-12107 Filed 6-9-17; 8:45 am]

BILLING CODE 3510-DS-P